DEPARTMENT OF COMMERCE

National Oceanic and Atmospheric Administration

[RTID 0648-XR070]

Takes of Marine Mammals Incidental to Specified Activities; Taking Marine Mammals Incidental to Geophysical Survey in the Atlantic Ocean

AGENCY: National Marine Fisheries Service (NMFS), National Oceanic and Atmospheric Administration (NOAA), Commerce.

ACTION: Notice; proposed revised incidental harassment authorization (IHA); request for comments.

SUMMARY: On November 30, 2018, NMFS issued an IHA to ION GeoVentures, pursuant to the Marine Mammal Protection Act (MMPA). NMFS has received a request, co-signed by officers from ION GeoVentures (ION) and GX Technology Corporation (GXT), to administratively change the name of the holder of the subject IHA from ION to GXT. No other changes are proposed. NMFS is inviting comments on the proposed change.

DATES: Comments and information must be received no later than January 2, 2020.

ADDRESSES: Comments should be addressed to Jolie Harrison, Chief, Permits and Conservation Division, Office of Protected Resources, National Marine Fisheries Service. Physical comments should be sent to 1315 East-West Highway, Silver Spring, MD 20910 and electronic comments should be sent to ITP.Laws@noaa.gov.

Instructions: NMFS is not responsible for comments sent by any other method, to any other address or individual, or received after the end of the comment period. Comments received electronically, including all attachments, must not exceed a 25-megabyte file size. Attachments to electronic comments will be accepted in Microsoft Word or Excel or Adobe PDF file formats only. All comments received are a part of the public record and will generally be posted online at www.fisheries.noaa.gov/action/incidental-take-authorization-oil-and-gas-industry-geophysical-survey-activity-atlantic without change. All personal identifying information (e.g., name, address) voluntarily submitted by the commenter may be publicly accessible. Do not submit confidential business information or otherwise sensitive or protected information.

FOR FURTHER INFORMATION CONTACT: Ben Laws, Office of Protected Resources, NMFS, (301) 427-8401. Electronic copies of the original IHA, change request, and other documents relevant to issuance of the original IHA may be obtained online at: www.fisheries.noaa.gov/action/incidental-take-authorization-oil-and-gas-industry-geophysical-survey-activity-atlantic. In case of problems accessing these documents, please call the contact listed above.

SUPPLEMENTARY INFORMATION:

Background

Sections 101(a)(5)(A) and (D) of the MMPA (16 U.S.C. 1361 et seq.) direct the Secretary of Commerce (as delegated to NMFS) to allow, upon request, the incidental, but not intentional, taking of small numbers of marine mammals by U.S. citizens who engage in a specified activity (other than commercial fishing) within a specified geographical region if certain findings are made and either regulations are issued or, if the taking is limited to harassment, a notice of a proposed authorization is provided to the public for review.

An authorization for incidental takings shall be granted if NMFS finds that the taking will have a negligible impact on the species or stock(s), will not have an unmitigable adverse impact on the availability of the species or stock(s) for subsistence uses (where relevant), and if the permissible methods of taking and requirements pertaining to the mitigation, monitoring and reporting of such takings are set forth.

Summary of Request

On November 30, 2018, NMFS issued an IHA to ION to take marine mammals, by harassment, incidental to a proposed geophysical survey in the Atlantic Ocean (83 FR 63268). NMFS subsequently received a written request, co-signed by officers from both ION and GXT, to administratively change the name of the IHA holder from ION to GXT. This November 6, 2019, request states that GXT, a U.S. corporation, is a wholly owned subsidiary of ION Exploration Productions (U.S.A.), Inc., which, in turn, is wholly owned by ION Geophysical Corporation. The request further states that “ION GeoVentures” is the name of a business unit within ION Geophysical Corporation that performs a specific business function for entities in the corporate structure of ION Geophysical Corporation, including for GXT. According to the request, however, GXT is the company that plans to carry out the subject geophysical survey in the Atlantic Ocean and should have been listed as the applicant. The request explains that inclusion of the name “ION GeoVentures” on the original IHA request was an unintentional clerical error. With the name change, GXT expressly agrees to comply with the associated terms, conditions, stipulations, and restrictions of the original IHA.

Based on this request, we propose to revise the issued IHA by correcting the name of the IHA holder to reflect GXT. No other changes were requested. Written notification has not yet been received from the IHA holder and, therefore, the IHA is not yet effective. The revised IHA, if issued, would become effective upon notification from the IHA holder, with an expiration date no later than November 30, 2020.

There are no other changes to the issued IHA as described in the December 7, 2018, Federal Register notice of a final IHA (83 FR 63268): The specified activity; description of marine mammals in the area of the specified activity; potential effects on marine mammals and their habitat; mitigation and related monitoring used to implement mitigation; reporting; estimated take by incidental harassment; negligible impact and small numbers analyses and determinations; impact on availability of affected species or stocks for subsistence uses and the period of effectiveness remain unchanged and are herein incorporated by reference.

Proposed Revisions to the IHA

NMFS is proposing a change in the name of the holder of the IHA from “ION GeoVentures” to “GX Technology Corporation.”

Request for Public Comments

NMFS invites comment on the proposed change in the name of the holder of the IHA only. The scope of NMFS' decision and, therefore, the scope of this solicitation for public comment, is limited to the requested change. Comments that are not relevant to this decision will not be considered. Please include with your comments any supporting information to help inform our final decision on GXT's request.

Dated: November 26, 2019.
Angela Somma,
Acting Director, Office of Protected Resources, National Marine Fisheries Service.

[FR Doc. 2019-26054 Filed 12-2-19; 8:45 am]

BILLING CODE 3510-22-P